DEPARTMENT OF TRANSPORTATION

Federal Aviation Administration

14 CFR Part 97

[Docket No. 30232; Amdt. No. 2037]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference—approved by the Director of the Federal Register on December 31, 1980, and reapproved as of January 1, 1982.

ADDRESSES: Availability of matters incorporated by reference in the amendment is as follows:

For Examination—

1. FAA Rules Docket, FAA Headquarters Building, 800 Independence Avenue, SW., Washington, DC 20591;

2. The FAA Regional Office of the region in which the affected airport is located; or

3. The Flight Inspection Area Office which originated the SIAP.

For Purchase—

Individual SIAP copies may be obtained from:

1. FAA Public Inquiry Center (APA-200), FAA Headquarters Building, 800 Independence Avenue SW., Washington, DC 20591; or

2. The FAA Regional Office of the region inwhich the affected airport is located.

By Subscription—

Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125); telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form douments is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC on February 16, 2001.
L. Nicholas Lacey,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective March 22, 2001

Columbus, OH, Port Columbus Intl, NDB RWY 10L, Amdt 8B

Columbus, OH, Port Columbus Intl, NDB RWY 10R, Amdt 7B

Columbus, OH, Port Columbus Intl, NDB RWY 28L, Amdt 13B

Columbus, OH, Port Columbus Intl, ILS RWY 28R, Amdt 2

Columbus, OH, Port Columbus Intl, RNAV (GPS) RWY 10L, Orig

Columbus, OH, Port Columbus Intl, RNAV (GPS) RWY 10R, Orig

Columbus, OH, Port Columbus Intl, RNAV (GPS) RWY 28L, Orig

Columbus, OH, Port Columbus Intl, RNAV (GPS) RWY 28R, Orig

Del Rio, TX, Del Rio Intl, NDB RWY 13, Amdt 3 (CANCELLED)

Del Rio, TX, Del Rio Intl, LOC RWY 13, Amdt 4 (CANCELLED)

Del Rio, TX, Del Rio Intl, NDB RWY 13, Orig

Del Rio, TX, Del Rio Intl, LOC RWY 13, Orig

Houston, TX, William P. Hobby, GPS RWY 4, Orig, CANCELLED

Houston, TX, William P. Hobby, GPS RWY 12R, Orig, CANCELLED

Houston, TX, William P. Hobby, GPS RWY 17, Orig, CANCELLED

Houston, TX, William P. Hobby, GPS RWY 22, Orig, CANCELLED

Houston, TX, William P. Hobby, GPS RWY 30L, Orig, CANCELLED

Houston, TX, William P. Hobby, GPS RWY 35, Orig, CANCELLED

Houston, TX, William P. Hobby, RNAV (GPS) RWY 4, Orig

Houston, TX, William P. Hobby, RNAV (GPS) RWY 12R, Orig

Houston, TX, William P. Hobby, RNAV (GPS) RWY 17, Orig

Houston, TX, William P. Hobby, RNAV (GPS) RWY 22, Orig

Houston, TX, William P. Hobby, RNAV (GPS) RWY 30L, Orig

Houston, TX, William P. Hobby, RNAV (GPS) RWY 35, Orig

* * * Effective April 19, 2001

New Madrid, MO, County Memorial, NDB RWY 18, Amdt 3

Del Rio, TX, Del Rio Intl, VOR/DME OR GPS-B, Amdt 4 (CANCELLED)

Del Rio, TX, Del Rio Intl, VOR OR GPS-A, Amdt 11 (CANCELLED)

Del Rio, TX, Del Rio Intl, VOR/DME-B, Orig

Del Rio, TX, Del Rio Intl, VOR-A, Orig

* * * Effective May 17, 2001

Paducah, KY, Barkley Regional, VOR OR GPS RWY 4, Amdt 17

Paducah, KY, Barkley Regional, VOR/DME RWY 22, Amdt 5

Paducah, KY, Barkley Regional, NDB OR GPS RWY 22, Amdt 3

Paducah, KY, Barkley Regional, ILS RWY 4, Amdt 8

Aurora, MO, Aurora Memorial Muni, VOR/DME-A, Amdt 4

Beatrice, NE, Beatrice Muni, VOR RWY 35, Amdt 7

Austin, TX, Austin-Bergstrom Intl, GPW RWY 17R, Amdt 1B

Austin, TX, Austin-Bergstrom Intl, GPW RWY 35L, Amdt 1B

Austin, TX, Austin-Bergstrom Intl, GPW RWY 35R, Orig-B

Duchesne, UT, Duchesne Muni, VOR/DME-A, Orig

Duchesne, UT, Duchesne Muni, VOR/DME OR GPS RWY 25, Amdt 1, (CANCELLED)

Jackson, WY, Jackson Hole, ILS RWY 18, Amdt 7

Note: The FAA published an amendment in Docket No. 30229, Amdt. No. 2035 to Part 97 of the Federal Aviation Regulations (Federal Register Vol. 66, No. 30, Page 9916 dated February 13, 2001) under Section 97.27 effective March 22, 2001 which is hereby amended as follows:

Ames, IA, Ames Muni, NDB OR GPS RWY 1, Amdt 1B should read:

Ames, IA, Ames Muni, NDB RWY 1, Amdt 1B

[FR Doc. 01-4682 Filed 2-23-01; 8:45 am]

BILLING CODE 4910-13-M